DEPARTMENT OF TRANSPORTATION

Research and Special Programs Administration

Office of Hazardous Materials Safety; Notice of Applications for Modification of Exemption

AGENCY: Research and Special Programs Administration, DOT.

ACTION: List of applications for modification of exemptions.

SUMMARY: In accordance with the procedures governing the application for, and the processing of, exemptions from the Department of Transportation's Hazardous Materials Regulations (49 CFR part 107, Subpart B), notice is hereby given that the Office of Hazardous Materials Safety has received the applications described herein. This notice is abbreviated to expedite docketing and public notice. Because the sections affected, modes of transportation, and the nature of application have been shown in earlier Federal Register publications, they are not repeated here. Requests for modifications of exemptions (e.g. to provide for additional hazardous materials, packaging design changes, additional mode of transportation, etc.) are described in footnotes to the application number. Application numbers with the suffix “M” denote a modification request. These applications have been separated from the new applications for exemptions to facilitate processing.

DATES: Comments must be received on or before November 12, 2002.

ADDRESS COMMENTS TO: Records Cancer, Research and Special Programs Administration, U.S. Department of Transportation, Washington, DC 20590.

Comments should refer to the application number and be submitted in triplicate. If confirmation of receipt of comments is desired, include a self-addressed stamped postcard showing the exemption number.

FOR FURTHER INFORMATION: Copies of the applications are available for inspection in the Records Center. Nassif Building, 400 7th Street SW., Washington, DC or at http://dms.dot.gov.

This notice of receipt of applications for modification of exemptions is published in accordance with part 107 of the Federal hazardous materials transportation law (49 U.S.C. 5117(b); 49 CFR 1.53(b)).

Issued in Washington, DC, on October 22, 2002.
R. Ryan Posten,
Exemptions Program Oficer, Office of Hazardous Materials, Exemptions and Approvals.

Application No. | Docket No. | Applicant | Modification of exemption
8760-M |  | Barton Solvents, Inc., Des Moines, IA ¹ | 8760
8944-M |  | AMKO A Service Company, Gnadenhutten, OH ² | 8944
11993-M | RSPA-97-3100 | BREED Technologies, Inc., Lakeland, FL ³ | 11993
12277-M | RSPA-95-5797 | The Indian Sugar & General Engineering Corporation, Haryana, IN ⁴ | 12277
12886-M | RSPA-02-11449 | The Society of the Plastics Industry, Inc., Washington, DC ⁵ | 12886
12953-M | RSPA-02-11835 | Westinghouse Electric Company, Pittsburgh, PA ⁶ | 12953
13036-M | RSPA-02-12789 | Datum, Beverly, MA ⁷ | 13036
13113-M | RSPA-02-13308 | Dow AgroSciences L.L.C., Indianapolis, IN ⁸ | 13113
13133-M |  | U.S. Department of Energy, Albuquerque, NM ⁹ | 13133
¹ To modify the exemption to authorize the transportation of additional Class 3 materials in compartmented cargo tank motor vehicles.
² To modify the exemption to authorize the use of an additional cylinder with changes to the requalification/retest procedures and rail freight and cargo aircraft only as additional modes of transportation.
³ To modify the exemption to authorize the transportation of Division 1.4G and Class 9 materials in non-DOT specification cylinders for use as components of automobile safety restraint systems.
⁴ To modify the exemption to authorize an updated design of the non-DOT specification pressure vessel for the transportation of Division 2.1, 2.2 and additional 2.3 materials.
⁵ To reissue the exemption originally issued on an emergency basis for the transportation of a Division 5.2 material without subsidiary hazard labels.
⁶ To modify the exemption to authorize an updated description of the Class 7 material to be transported via rail freight and motor vehicle.
⁷ To reissue the exemption originally issued on an emergency basis for the transportation of DOT Specification 3E cylinders containing hydrogen in metal hydride as an integral part of the hydrogen maser.
⁸ To reissue the exemption originally issued on an emergency basis for the transportation of Division 6.1 materials in DOT Specification cargo tank motor vehicles and portable tanks.
⁹ To reissue the exemption originally issued on an emergency basis for the transportation of up to 25 grams of unapproved explosives, classed as Division 1.4E, when shipped in a special shipping container.

[FR Doc. 02-27392 Filed 10-25-02; 8:45 am]

BILLING CODE 4910-60-M